DEPARTMENT OF TRANSPORTATION

Federal Motor Carrier Safety Administration

[Docket No. FMCSA-2007-0075]

Agency Information Collection Activities; New Information Collection: Household Goods Consumer Information Program Assessment Study

AGENCY: Federal Motor Carrier Safety Administration (FMCSA), DOT.

ACTION: Notice and request for information.

SUMMARY: In accordance with the Paperwork Reduction Act of 1995, FMCSA announces its plan to submit the Information Collection Request (ICR) described below to the Office of Management and Budget (OMB) for review and approval. The intent of the ICR is to collect information on recent interstate household goods shippers' (consumers) awareness of the Household Goods (HHG) Consumer Information Program messages and activities. On September 26, 2007, FMCSA published a Federal Register notice allowing for a 60-day comment period on the ICR. One comment was received.

DATES: Please send your comments by February 19, 2008. OMB must receive your comments by this date in order to act quickly on the ICR.

ADDRESSES: All comments should reference DOT Docket No. FMCSA-2007-0075. You may submit comments to the Office of Information and Regulatory Affairs, Office of Management and Budget, 725 Seventeenth Street, NW., Washington, DC 20503, Attention: DOT/FMCSA Desk Officer.

FOR FURTHER INFORMATION CONTACT: Mr. Brian Ronk, Program Manager, FMCSA, Office of Outreach and Development. Telephone: (202) 366-1072; or e-mail brian.ronk@dot.gov.

SUPPLEMENTARY INFORMATION: Title: Household Goods Consumer Information Program Assessment Study.

OMB Control Number: 2126-XXXX.

Type of Request: New information collection.

Respondents: Public/consumers who have moved household goods from one State to a different State in the U.S. (Interstate Household Goods Shippers).

Estimated Number of Respondents: 1500.

Estimated Time per Response: The estimated average burden per response is 15 minutes.

Expiration Date: N/A. This is a new information collection.

Frequency of Response: This information collection will occur twice within the three year effective period of the OMB clearance; once in the initial year of approval and again two years following the initial data collection.

Estimated Average Total Annual Burden: 250 hours [1,500 respondents × 15 minutes/60 minutes per response × 2 telephone interviews/3 year ICR approval timeframe = 250].

Background

The purpose of this study is to quantify and assess consumer awareness of the Household Goods (HHG) Consumer Information Program. The study will determine the interstate moving public's recognition or knowledge of the Program's activities or messages, such as the “Protect Your Move” campaign. The data will be collected through a telephone survey. Results of the study will not be published, but used for internal research purposes by FMCSA in developing future HHG campaign materials, identifying target audiences, and determining distribution strategies to provide better consumer information to the public. It will also serve as a baseline for future program evaluations or assessments. A follow-up telephone survey will be conducted two years after the initial data collection and compared against the results from baseline assessment.

FMCSA published a Federal Register notice allowing for a 60-day comment period on the ICR on September 26, 2007. One comment was received regarding the need for the Agency to focus on problems that have been reported instead of conducting a data collection effort. FMCSA responded to the comment explaining the need for the study and affirmed the writer's concern about the safe and reliable delivery of a consumer's household goods. The FMCSA's response also explained the goal of the agency's Household Goods (HHG) Consumer Information Program.

Public Comments Invited: You are asked to comment on any aspect of this information collection, including: (1) Whether the proposed collection is necessary for the performance of FMCSA's functions; (2) the accuracy of the estimated burden; (3) ways for the FMCSA to enhance the quality, usefulness, and clarity of the collected information; and (4) ways that the burden could be minimized without reducing the quality of the collected information.

Issued on: January 10, 2008.
Terry Shelton,
Associate Administrator for Research and Information Technology.

[FR Doc. E8-795 Filed 1-16-08; 8:45 am]

BILLING CODE 4910-EX-P